DEPARTMENT OF COMMERCE

National Oceanic and Atmospheric Administration

[I.D. 031403A]

Proposed Information Collection; Comment Request; Alaska Region Scale and Catch Weighing Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 19, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Patsy A. Bearden at 907-586-7228, or at patsy.bearden@noaa.gov.

SUPPLEMENTARY INFORMATION:

I. Abstract

The procedures in question are designed for Western Alaska Community Development Quota (CDQ) catcher/processors and American Fisheries Act (AFA) catcher/processors and AFA motherships and involve catch weighing, observer sampling stations, and observer coverage requirements. This existing information collection would be revised to incorporate catch-weighing requirements for AFA inshore processors (shoreside processors and stationary floating processors).

NMFS must be able to ensure that the total weight, species composition, and catch location for each delivery are reported accurately. This is accomplished through a catch-monitoring system that: allows for independent verification of catch weight, species composition and haul location data; ensures that all catch is weighed accurately; and provides a record of the weight of each delivery that may be audited by NMFS. Requirements include approval of scale types for use, inspection requests, scale tests, an inshore processor catch monitoring and control plan, and printed output from scales.

II. Method of Collection

Forms or may be e-mailed, FAXed or submitted in paper form. The daily scale test forms and scale printed output are paper forms that are not submitted to NMFS.

III. Data

OMB Number: 0648-0330.

Form Number: None.

Type of Review: Regular submission.

Affected Public: Business or other for-profit organizations, individuals or households, and not-for-profit institutions.

Estimated Number of Respondents: 37.

Estimated Time Per Response: 20-190 hours for a scale type evaluation; 6 minutes for at-sea scale inspection request; 6 minutes for scale approval report/sticker; 2 minutes for application to inspect scales on behalf of NMFS; 6 minutes for records of daily at-sea or shoreside scale tests; 45 minutes for printed at-sea or shoreside scale output; 2 hours for request for observer station inspection; 5 minutes for inshore Catch Monitoring and Control Plan (CMCP) inspection request; 40 hours for CMCP; and 8 hours for CMCP addendum.

Estimated Total Annual Burden Hours: 4,727.

Estimated Total Annual Cost to Public: $6,048.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

Dated: March 12, 2003
Gwellnar Banks,
Management Analyst, Office of the Chief Information Officer.

[FR Doc. 03-6590 Filed 3-18-03; 8:45 am]

BILLING CODE 3510-22-S